DEPARTMENT OF HOMELAND SECURITY

Coast Guard

33 CFR Part 100

[CGD07-04-099]

RIN 1625-AA08

Special Local Regulations; World Championship Super Boat Race, Deerfield Beach, FL

AGENCY: Coast Guard, DHS.

ACTION: Notice of proposed rulemaking.

SUMMARY: The Coast Guard proposes to establish temporary special local regulations for the World Championship Super Boat Race held offshore of Deerfield Beach, Florida. These special local regulations limit the movement of non-participating vessels in the regulated race area and provide for a viewing area for spectator craft. This rule is needed to provide for the safety of life on navigable waters during the event.

DATES: Comments and related material must reach the Coast Guard on or before September 24, 2004.

ADDRESSES: You may mail comments and related material to Coast Guard Sector Miami, 100 MacArthur Causeway, Miami Beach, FL 33139. Coast Guard Sector Miami maintains the public docket [CGD07-04-099] for this rulemaking. Comments and material received from the public, as well as documents indicated in this preamble as being available in the docket, will become part of this docket and will be available for inspection or copying at Coast Guard Sector Miami, 100 MacArthur Causeway, Miami Beach, FL 33139 between 8 a.m. and 4:30 p.m., Monday through Friday, except Federal holidays.

FOR FURTHER INFORMATION CONTACT: Boatswain's Mate Chief D. Vaughn, Coast Guard Sector Miami, FL at (305) 535-4317.

SUPPLEMENTARY INFORMATION:

Request for Comments

We encourage you to participate in this rulemaking by submitting comments and related material. If you do so, please include your name and address, identify the docket number for this rulemaking [CGD07-04-099], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Coast Guard Sector Miami at the address under ADDRESSES explaining why one would be beneficial. If we determine that one would aid this rulemaking, we will hold one at a time and place announced by later notice in the Federal Register.

Background and Purpose

Super Boat International Productions, Inc., is sponsoring a high-speed power boat race proposed for October 10, 2004, from 10 a.m. until 5 p.m., in the Atlantic Ocean off Deerfield Beach, Florida. The race organizers expect 80 participants and 200 spectator craft for this event. The event takes place outside of the marked channel so that it will not interfere with commercial shipping. Recreational vessels and fishing vessels normally operate in the waters proposed for the event. This rule is required to provide for the safety of life on navigable waters because of the inherent dangers associated with power boats racing at high speeds in proximity to other vessels. The rule prohibits non-participating vessels from entering the regulated race area offshore of Deerfield Beach, Florida, during the event. The sponsoring organization proposes to patrol and provide safety services for the regulated area in the form of the following: 3 race equipment check boats, 6 medical boats, 10 safety and manatee-sea turtle watch boats, 3 media coverage boats, and 2 medical rescue helicopters. The race schedule follows:

1. The regulated area will be closed one (1) hour before the racing begins to ensure that manatees, sea turtles and spectators are no longer in the regulated area.

2. At 11 a.m., smaller vessels will race in the following manner:

Super Stock (S) | 65 miles (10 Laps).
Manufactures (F) 1 | 59 miles (9 Laps).
Divisional (P) 1, 2, 3, 4, 5 | 40 miles (6 Laps).

3. At 1 p.m., racing begins for the Superboats in the following manner:

Superboat (Cat) & Superboat VEE (V) | 104 miles (16 Laps).
Superboat Unlimited & Superboat Vee Unlimited | 104 miles (16 Laps).
Superboat Vee Limited (VL), Superboat Limited (Cat), Super X (X) | 84 miles (13 Laps).

A Coast Guard Patrol commander will be present during the event to monitor compliance with this regulation.

Discussion of Proposed Rule

This rule will create two regulated areas, a race area and a viewing area. These regulated areas assist in providing for the safety of life on navigable waters and minimizing the inherent dangers associated with powerboat races. These dangers include race craft traveling at high speed in close proximity to one other and in relatively close proximity to spectator craft. Due to these concerns, public safety requires these regulations to provide for the safety of life on the navigable waters.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

This regulation would affect a limited area offshore of Deerfield Beach, Florida, and only for a limited time period. It would be effective October 10, 2004 from 10 a.m. until 5 p.m. for the duration of the scheduled races.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule would affect the following entities, some of which may be small entities: The owners or operators of vessels intending to transfer or anchor in a portion of the Atlantic Ocean near Deerfield Beach, Florida from 10 a.m. until 5 p.m. on October 10, 2004. The Coast Guard certifies under U.S.C. 605(b) that this rule would not have a significant economic impact on a substantial number of small entities, because this rule would regulate a very small area, be in effect for a limited duration, and allow the transit of commercial and recreational vessels between races. Moreover, all vessel traffic can pass safely around the zone. Before the effective period, maritime advisories would be issued over VHF-FM radio to allow the maritime community to plan accordingly.

If you think that your business, organization, or governmental jurisdiction qualifies as a small entity and that this rule would have a significant economic impact on it, please submit a comment (see ADDRESSES) explaining why you think it qualifies and how and to what degree this rule would economically affect it.

Assistance for Small Entities

Under Section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT for assistance in understanding and participating in this rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State of local governments and would either preempt State law or impose a substantial direct cost of compliance on them. We have analyzed this proposed rule under that Order and have determined that it does not have implications for federalism.

Unfunded Mandated Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order, because it is not a “significant regulatory action” under Executive Order 12866 and is not likely to have a significant adverse effect on the supply, distribution, or use of energy. The administrator of the Office or Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of material, performance, design, or operation; test methods; sampling procedures; and related management systems practices) that are developed or adopted by voluntary consensus standards bodies.

This proposed rule does not use technical standards. Therefore, we did not consider the use of voluntary consensus standards.

Environment

We have analyzed this proposed rule under Commandant Instruction M16475.1D, which guides the Coast Guard in complying with the National Environmental Policy Act of 1969 (NEPA) (42 U.S.C. 4321-4370f), and have concluded that there are not factors in this case that would limit the use of a categorical exclusion under section 2.B.2 of the Instruction. Therefore, this rule is categorically excluded, under figure 2-1, paragraph (34)(h), of the Instruction, from further environmental documentation. Under figure 2-1, paragraph (34)(h), of the Instruction, an “Environmental Analysis Check List” and a “Categorical Exclusion Determination” are not required for this rule.

List of Subjects in 33 CFR Part 100

Marine safety, Navigation (water), Reporting and recordkeeping requirements, Waterways.

For the reasons discussed in the preamble, the Coast Guard proposes to amend 33 CFR part 100, as follows:

PART 100—MARINE EVENTS

1. The authority citation for Part 100 continues to read as follows:

Authority: 33 U.S.C. 1233; Department of Homeland Security Delegation No. 0170.1

2. From 10 a.m. until 5 p.m. on October 10, 2004, add temporary § 100.35T-07-099 to read as follows:

§ 100.35T-07-099 World Championship Super Boat Race; Deerfield Beach, Florida.

(a) Regulated areas. (1) The regulated area encompasses all waters located inside of a line connecting the following positions located offshore of Deerfield Beach, Florida:

Point 1: 26°17′08″ N, 080°04′41″ W,

Point 2: 26°17′06″ N, 080°04′17″ W,

Point 3: 26°19′49″ N, 080°04′16″ W,

Point 4: 26°19′49″ N, 080°03′48″ W,

All coordinates referenced use Datum: NAD 1983.

(2) The spectator area encompasses all waters located within a box bounded by the following positions located offshore of Deerfield Beach, Florida:

Point 1: 26°17′07″ N, 080°04′26″ W,

Point 2: 26°17′06″ N, 080°04′17″ W,

Point 3: 26°19′49″ N, 080°03′57″ W,

Point 4: 26°19′49″ N, 080°03′48″ W.

All coordinates referenced use Datum NAD: 1983.

(b) Coast Guard Patrol Commander. The Coast Guard Patrol Commander is a commissioned, warrant, or petty officer of the Coast Guard who has been designated by Commanding Officer, Coast Guard Sector Miami, Florida.

(c) Special Local Regulations. From 10 a.m. until 5 p.m. on October 10, 2004, non-participant vessels are prohibited from entering the regulated area unless authorized by the Coast Guard Patrol Commander. Spectator craft may remain in the designated spectator area but must follow the directions of the Coast Guard Patrol Commander. The Coast Guard Patrol Commander can be contacted on VHF marine band radio, channel 16.

(d) Dates: This section is effective from 10 a.m. until 5 p.m. on October 10, 2004.

Dated: August 30, 2004.
D.B. Peterman,
Rear Admiral, U.S. Coast Guard, Commander, Seventh Coast Guard District.

[FR Doc. 04-20456 Filed 9-8-04; 8:45 am]

BILLING CODE 4910-15-M